INTERNATIONAL TRADE COMMISSION

[Investigation No. 337-TA-623]

In the Matter of R-134a Coolant (Otherwise Known As 1,1,1,2-Tetrafluoroethane); Notice of Commission Decision Not To Review an Initial Determination Granting Complainants' Motion To Amend the Complaint and Notice of Investigation

AGENCY: U.S. International Trade Commission.

ACTION: Notice.

SUMMARY: Notice is hereby given that the U.S. International Trade Commission has determined not to review an initial determination (“ID”) (Order No. 6) issued by the presiding administrative law judge (“ALJ”) granting complainants” motion to amend the complaint and notice of investigation.

FOR FURTHER INFORMATION CONTACT: Michelle Walters, Office of the General Counsel, U.S. International Trade Commission, 500 E Street, SW., Washington, DC 20436, telephone (202) 708-5468. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted the above-referenced investigation on December 31, 2007, based on a complaint filed by INEOS Fluor Holdings Ltd., INEOS Fluor Ltd., and INEOS Fluor Americas L.L.C. (collectively “INEOS”). The complaint alleges violations of section 337 of the Tariff Act of 1930 (19 U.S.C. 1337) in the importation into the United States, the sale for importation, and the sale within the United States after importation of certain R-134a coolant (otherwise known as 1,1,1,2-tetrafuoroethane) by reason of infringement of various claims of United States Patent No. 5,744,658. The complaint named two respondents, Sinochem Modern Environmental and Sinochem Ningbo Ltd.

On March 18, 2008, INEOS filed a motion to amend the complaint to add two additional respondents, Sinochem Environmental Protection Chemicals (Taicang) Co. Ltd. and Sinochem (U.S.A.) Inc., to add allegations of infringement of two additional patents, United States Patent Nos. 5,382,722 and 5,559,276, and to modify the request for relief to seek a limited rather than a general exclusion order. Respondents argued that complainants had failed to make a showing of good cause. The Commission investigative attorney argued that the motion should be denied insofar as it seeks to add patents to the complaint.

On March 28, 2008, the ALJ granted INEOS's motion, finding that, pursuant to Commission Rule 210.14(b)(1) (19 CFR 210.14(b)(1)), there was good cause to add the respondents and the patents and to modify the requested remedy. No petitions for review of this ID were filed.

Having examined the record of this investigation, the Commission has determined not to review the ALJ's ID.

The authority for the Commission's determination is contained in section 337 of the Tariff Act of 1930, as amended (19 U.S.C. 1337), and in section 210.42 of the Commission's Rules of Practice and Procedure (19 CFR 210.42).

By order of the Commission.
Issued: April 24, 2008.
Marilyn R. Abbott,
Secretary to the Commission.

[FR Doc. E8-9416 Filed 4-29-08; 8:45 am]

BILLING CODE 7020-02-P